DEPARTMENT OF DEFENSE

48 CFR Parts 201, 202, et al., and Appendix G to Chapter 2

Defense Federal Acquisition Regulation Supplement; Technical Amendments

AGENCY: Department of Defense (DoD).

ACTION: Final rule.

SUMMARY: DoD is making technical amendments to the Defense Federal Acquisition Regulation Supplement to update organizational names and addresses and cross references.

EFFECTIVE DATE: February 14, 2003.

FOR FURTHER INFORMATION CONTACT: Ms. Michele Peterson, Defense Acquisition Regulations Council, OUSD(AT&L)DPAP(DAR), IMD 3C132, 3062 Defense Pentagon, Washington, DC 20301-3062. Telephone (703) 602-0311; facsimile (703) 602-0350.

List of Subjects in 48 CFR Parts 201, 202, 204, 206, 209, 212, 214, 217, 219, 230, 231, 232, 236, 239, 242, 249, 250, 252, and 253

Government procurement.

Michele P. Peterson,
Executive Editor, Defense Acquisition Regulations Council.

Therefore, 48 CFR parts 201, 202, 204, 206, 209, 212, 214, 217, 219, 230, 231, 232, 236, 239, 242, 249, 250, 252, 253, and Appendix G to chapter 2 are amended as follows:

1. The authority citation for 48 CFR parts 201, 202, 204, 206, 209, 212, 214, 217, 219, 230, 231, 232, 236, 239, 242, 249, 250, 252, 253, and Appendix G to subchapter I continues to read as follows:

Authority: 41 U.S.C. 421 and 48 CFR chapter 1.

PART 201—FEDERAL ACQUISITION REGULATIONS SYSTEM

201.201-1 [Amended]

2. Section 201.201-1 is amended in paragraph (d)(i)V., in the second sentence, by adding, after “Procurement”, the phrase “and Acquisition Policy”.

201.304 [Amended]

3. Section 201.304 is amended as follows:

a. In paragraph (1)(ii), by removing “(USD(AT&L)DPPA)”; and adding in its place “and Acquisition Policy (OUSD(AT&L)DPAP)”; and

b. In paragraphs (4) and (5), by removing “USD(AT&L)DP” and adding in its place “OUSD(AT&L)DPAP”.

201.402 [Amended]

4. Section 201.402 is amended as follows:

a. In paragraph (1) introductory text, by adding, after “Procurement”, the phrase “and Acquisition Policy”, and by removing “(USD(AT&L)DP)” and adding in its place “(OUSD(AT&L)DPAP)”; and

b. In paragraph (2) introductory text, in the second sentence, by removing “USD(AT&L)DP” and adding in its place “OUSD(AT&L)DPAP”.

201.404 [Amended]

5. Section 201.404 is amended in paragraph (b)(i) by removing “USD(AT&L)DP” and adding in its place “OUSD(AT&L)DPAP”.

PART 202—DEFINITIONS OF WORDS AND TERMS

202.101 [Amended]

6. Section 202.101 is amended in the definition of “Contracting activity” as follows:

a. Under the heading “ARMY”, by removing “Defense Supply Service-Washington” and adding in its place “Defense Contracting Command-Washington”;

b. Under the heading “NAVY”, in the first entry, by removing “and Business”; and

c. By removing the heading “BALLISTIC MISSILE DEFENSE ORGANIZATION” and the entry “Headquarters, Ballistic Missile Defense Organization” and adding in their place the heading “MISSILE DEFENSE AGENCY” and the entry “Headquarters, Missile Defense Agency”.

7. Section 202.101 is amended in the definition of “Departments and agencies”, in the last sentence, by removing “Ballistic Missile Defense Organization” and adding in its place “Missile Defense Agency”.

8. Section 202.101 is amended in the definition of “Head of the agency”, in the second sentence, by adding, after “Procurement”, the phrase “and Acquisition Policy”.

PART 204—ADMINISTRATIVE MATTERS

204.7003 [Amended]

9. Section 204.7003 is amended in paragraph (a)(1)(i)(J) by removing “Ballistic Missile Defense Organization” and adding in its place “Missile Defense Agency”.

PART 206—COMPETITION REQUIREMENTS

206.302-5 [Amended]

10. Section 206.302-5 is amended in paragraph (c)(i)(B), in the last sentence, by adding, after “Procurement”, the phrase “and Acquisition Policy”.

PART 209—CONTRACTOR QUALIFICATIONS

209.104-1 [Amended]

11. Section 209.104-1 is amended in paragraph (g)(ii)(C), in the third sentence, by adding, after “Procurement”, the phrase “and Acquisition Policy”.

209.104-70 [Amended]

12. Section 209.104-70 is amended in paragraph (a), in the second sentence, by removing “Defense Procurement, ATTN: OUSD(AT&L)DP/FC” and adding in its place “Defense Procurement and Acquisition Policy, ATTN: OUSD(AT&L)DPAP(PAIC)”.

209.403 [Amended]

13. Section 209.403 is amended in the definition of “Debarring and suspending official”, in paragraph (1), by removing the entry “Ballistic Missile Defense Organization—The General Counsel” and adding in its place “Missile Defense Agency—The General Counsel”.

209.406-2 [Amended]

14. Section 209.406-2 is amended in paragraph (a)(ii) by adding, after “Procurement”, the phrase “and Acquisition Policy,”.

PART 212—ACQUISITION OF COMMERCIAL ITEMS

212.301 [Amended]

15. Section 212.301 is amended by removing paragraph (f)(i)(B) and redesignating paragraphs (f)(i)(C) and (D) as paragraphs (f)(i)(B) and (C), respectively.

PART 214—SEALED BIDDING

16. Section 214.407-3 is amended by revising paragraph (e)(vii) to read as follows:

214.407-3 Other mistakes disclosed before award.

(e) * * *

(vii) Missile Defense Agency: General Counsel, MDA.

* * * * *

PART 217—SPECIAL CONTRACTING METHODS

217.170 [Amended]

17. Section 217.170 is amended in paragraph (d)(4), in the second sentence, as follows:

a. By adding, after “Procurement”, the phrase “and Acquisition Policy”; and

b. By removing “(OUSD(AT&L)DP)” and adding in its place “(OUSD(AT&L)DPAP)”.

217.173 [Amended]

18. Section 217.173 is amended in paragraph (b)(5)(iv) by removing “OUSD(AT&L)DP” and adding in its place “OUSD(AT&L)DPAP”.

PART 219—SMALL BUSINESS PROGRAMS

219.1007 [Amended]

19. Section 219.1007 is amended in paragraph (b)(1), in the first and second sentences, by adding, after “Procurement”, the phrase “and Acquisition Policy”.

PART 230—COST ACCOUNTING STANDARDS ADMINISTRATION

230.201-5 [Amended]

20. Section 230.201-5 is amended in paragraph (a)(1)(A)(2) twice, and in paragraphs (a)(1)(B), (e)(i), and (e)(ii), by adding, after “Procurement”, the phrase “and Acquisition Policy”.

PART 231—CONTRACT COST PRINCIPLES AND PROCEDURES

231.205-70 [Amended]

21. Section 231.205-70 is amended as follows:

a. In paragraph (d)(9) in the first sentence by adding, after “Procurement”, the phrase “and Acquisition Policy”, and by removing “OUSD(AT&L)DP/CPF” and adding in its place “OUSD(AT&L)DPAP(P)”; and

b. In paragraph (d)(10), by adding, after “Procurement”, the phrase “and Acquisition Policy”.

PART 232—CONTRACT FINANCING

232.006-5 [Amended]

22. Section 232.006-5 is amended by adding, after “Procurement”, the phrase “and Acquisition Policy”.

232.070 [Amended]

23. Section 232.070 is amended as follows:

a. In paragraph (a) in the first sentence by adding, after “Procurement”, the phrase “and Acquisition Policy”, and by removing “(OUSD(AT&L)DP)” and adding in its place “(OUSD(AT&L)DPAP)”; and

b. In paragraph (a) in the last sentence, and in paragraph (b) in the second sentence, by removing “OUSD(AT&L)DP” and adding in its place “OUSD(AT&L)DPAP”.

232.071 [Amended]

24. Section 232.071 is amended in paragraphs (a)(1), (b)(1), and (b)(3) by removing “OUSD(AT&L)DP” and adding in its place “OUSD(AT&L)DPAP”.

25. Section 232.501-2 is amended in paragraph (a) as follows:

a. By revising the first sentence; and

b. In the second sentence, by removing “OUSD(AT&L)DP” and adding in its place “OUSD(AT&L)DPAP”. The revised text reads as follows:

232.501-2 Unusual progress payments.

(a) Unusual progress payment arrangements require the advance approval of the Director of Defense Procurement and Acquisition Policy, Office of the Under Secretary of Defense (Acquisition, Technology, and Logistics) (OUSD(AT&L)DPAP). * * *

232.617 [Amended]

26. Section 232.617 is amended in paragraph (a) by adding, after “Procurement”, the phrase “and Acquisition Policy”.

PART 236—CONSTRUCTION AND ARCHITECT-ENGINEER CONTRACTS

236.570 [Amended]

27. Section 236.570 is amended in paragraph (b)(5) by removing “236.303-70” and adding in its place “236.213-70”.

PART 239—ACQUISITION OF INFORMATION TECHNOLOGY

28. Section 239.7302 is amended as follows:

a. In paragraph (b)(2)(i) in the third sentence by removing “Attn: D03D” and adding in its place “Attn: DSPD”; and

b. By revising paragraph (b)(2)(ii) to read as follows:

239.7302 Approvals and screening.

* * * * *

(b) * * *

(2) * * *

(ii) Uses the Defense Information Technology Management System (DITMS) to screen on-line. System access may be requested from the Defense Information Systems Agency, Chief Information Officer, Defense Automation Resources Management Program Division. Customers may apply for a DITMS Account Number by contacting the DITMS Help Desk at (703) 681-2400; DSN 761-2400; FAX (703) 681-2875; or via the Internet at https://ditms.disa.mil.

* * * * *

PART 242—CONTRACT ADMINISTRATION AND AUDIT SERVICES

242.602 [Amended]

29. Section 242.602 is amended in paragraph (c)(2) by adding, after “Procurement”, the phrase “and Acquisition Policy”.

242.771-3 [Amended]

30. Section 242.771-3 is amended in paragraph (c) by adding, after “Procurement”, the phrase “and Acquisition Policy”.

242.1203 [Amended]

31. Section 242.1203 is amended in paragraph (b)(2)(A), in the Navy entry, by removing “and Business”.

PART 249—TERMINATION OF CONTRACTS

32. Section 249.7000 is amended by revising paragraph (a)(1) to read as follows:

249.7000 Terminated contracts with Canadian Commercial Corporation.

(a) * * *

(1) The Letter of Agreement (LOA) between the Department of Defence Production (Canada) and the U.S. DoD, “Canadian Agreement” (for a copy of the LOA or for questions on its currency, contact the Office of the Director of Defense Procurement and Acquisition Policy (Program Acquisition and International Contracting), (703) 697-9351, DSN 227-9351);

* * * * *

33. Section 249.7001 is amended by revising paragraph (b)(11) to read as follows:

249.7001 Congressional notification on significant contract terminations.

* * * * *

(b) * * *

(11) Missile Defense Agency—Director of Contracts (MDA-DCT)

* * * * *

PART 250—EXTRAORDINARY CONTRACTUAL ACTIONS

34. Section 250.303 is amended as follows:

a. In paragraph (3), by removing “and Business”; and

b. By revising paragraph (12) to read as follows:

250.303 Contractor requests.

* * * * *

(12) Missile Defense Agency—Director, MDA.

PART 252—SOLICITATION PROVISIONS AND CONTRACT CLAUSES

35. Section 252.211-7005 is amended by revising the clause date and the second sentence of paragraph (b) to read as follows:

252.211-7005 Substitutions for Military or Federal Specifications and Standards.

* * * * *

Substitutions for Military or Federal Specifications and Standards (Feb 2003)

* * * * *

(b) * * * A listing of SPI processes accepted at specific facilities is available via the Internet in Excel format at http://www.dcma.mil/onebook/7.0/7.2/7.2.6/reports/modified.xls.

PART 253—FORMS

253.204-70 [Amended]

36. Section 253.204-70 is amended as follows:

a. In paragraph (b)(12)(iii)(B), by removing “Ballistic Missile Defense Organization” and adding in its place “Missile Defense Agency”; and

b. In paragraph (c)(4)(iii)(B)(5), by adding, after “Procurement”, the phrase “and Acquisition Policy”.

253.204-71 [Amended]

37. Section 253.204-71 is amended in paragraph (e)(2)(i)(A)(4), by adding, after “Procurement”, the phrase “and Acquisition Policy”.

Appendix G—Activity Address Numbers

G-102 [Amended]

38. Appendix G to Chapter 2 is amended in Part 1, Section G-102, paragraph (b)(2), by removing “OUSD(AT&L)DP(DAR)” and adding in its place “OUSD(AT&L)DPAP(DAR)”.

39. Appendix G to Chapter 2 is amended in Part 2 by revising entries “DABQ01”, “DABQ03”, and “DABQ06”, and by adding a new entry “DABR13” to read as follows:

Appendix G to Chapter 2—Activity Address Numbers

* * * * *

PART 2—ARMY ACTIVITY ADDRESS NUMBERS

* * * * *

DABQ01, 1K U.S. Army Contracting Element, Pacific, Office of the Director/PARC, ATTN: SFCA-PR, Building T-115, Fort Shafter, HI 96858-5430

DABQ03, 8U ACA, Fort Richardson, Regional Contracting Office, Alaska, ATTN: SFCA-PRA, PO Box 5-525, Fort Richardson, AK 99505-0525

DABQ06, CJ ACA, Fort Shafter, Regional Contracting Office, Hawaii, ATTN: SFCA-PRH, Building 520, Pierce Street, Fort Shafter, HI 96858-5025

* * * * *

DABR13 Joint Interagency Task Force East, Contracting Office, ATTN: J4, PO Box 9051, NAF Key West, FL 33040-9051

* * * * *

40. Appendix G to Chapter 2 is amended in Part 8 by revising entry “NMA201” to read as follows:

PART 8—NATIONAL IMAGERY AND MAPPING AGENCY ACTIVITY ADDRESS NUMBERS

* * * * *

NMA201, Y2 National Imagery and Mapping Agency, Contracting Support for Acquisition Directorate, ATTN: ACA/P-65, 12310 Sunrise Valley Drive, Reston, VA 20191-3449 (ZM21)

* * * * *

[FR Doc. 03-3572 Filed 2-13-03; 8:45 am]

BILLING CODE 5001-08-P